DEPARTMENT OF AGRICULTURE

Foreign Agricultural Service

Trade Adjustment Assistance for Farmers

AGENCY: Foreign Agricultural Service, USDA.

ACTION: Notice.

The Administrator, Foreign Agricultural Service (FAS), today accepted a petition filed by a group of apiarists representing Michigan natural honey, white or lighter, producers for trade adjustment assistance. The Administrator will determine within 40 days whether or not increasing imports of natural honey contributed importantly to a decline in domestic producer prices of 20 percent or more during the marketing period beginning September 1, 2005, and ending August 31, 2006. If the determination is positive, all apiarists who produce and market their natural honey in Michigan will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: February 5, 2007.
Michael W. Yost,
Administrator, Foreign Agricultural Service.

[FR Doc. E7-2778 Filed 2-15-07; 8:45 am]

BILLING CODE 3410-10-P